GENERAL SERVICES ADMINISTRATION

[FMR Bulletin 2005-B2]

Federal Management Regulation; Federal Real Property Profile Summary Report

AGENCY: General Services Administration.

ACTION: Notice of a bulletin.

SUMMARY: In furtherance of FMR Bulletin 2004-B1, this notice announces the release of the Fiscal Year (FY) 2004 version of the Federal Real Property Profile (FRPP) Summary Report, which provides an overview of the United States Government's owned and leased real property as of September 30, 2004. The FRPP Summary Report for FY 2004 is now available and is an update of the FRPP Summary Report for FY 2003.

EFFECTIVE DATE: This bulletin is effective July 1, 2005.

FOR FURTHER INFORMATION CONTACT: For clarification of content, contact Stanley C. Langfeld, Director, Regulations Management Division (MPR), General Services Administration, Washington, DC 20405; e-mail, stanley.langfeld@gsa.gov, telephone (202) 501-1737. Please cite FMR Bulletin 2005-B2.

SUPPLEMENTARY INFORMATION: The FRPP Summary Report is a summary of the Government's real property assets, as reported to the General Services Administration's (GSA's) Federal Real Property Profile Internet Application (FRPP-IA) reporting system. It provides an overview of Federal real property assets categorized in three major areas—buildings, land, and structures. Future year reporting of the Government's real property inventory will be modified based on the issuance of Executive Order 13327 and the reporting requirements identified by the Federal Real Property Council.

Dated: June 23, 2005.
G. Martin Wagner,
Associate Administrator, Office of Governmentwide Policy.

GENERAL SERVICES ADMINISTRATION

[FMR Bulletin 2005-B2]

Real Property

To: Heads of Federal Agencies

Subject: Federal Real Property Profile Summary Report

1. What is the purpose of this bulletin? This bulletin announces the release of the Fiscal Year (FY) 2004 version of the Federal Real Property Profile (FRPP) Summary Report, which provides an overview of the United States Government's owned and leased real property as of September 30, 2004.

2. What is the background?

a. This annual publication is a summary report of the Federal Government's real property assets, as reported to the General Services Administration's (GSA's) Federal Real Property Profile Internet Application (FRPP-IA) reporting system. The report provides an overview of Federal real property assets categorized in three major areas—buildings, land, and structures. Descriptions of specific use classifications are located in the Appendix of the report.

b. The detailed information for this summary report is held in a password-protected Web-based database. This database allows agency representatives to update data on-line in real time, and to produce ad hoc reports. The FRPP-IA reporting system provides information regarding Federal real property holdings to stakeholders, including the Office of Management and Budget, the Congress, the Federal community, and the public. Its purpose is to assist Federal asset managers with their stewardship responsibilities by offering a real-time environment for on-line updates.

c. To ensure accuracy, GSA requested that agencies confirm their FY 2004 data summary figures prior to publication of the FRPP Summary Report. Most agencies provided data based on their real property holdings as of September 30 of each year. In a few instances, data provided in previous years has been used where updated information was unavailable. This is noted on the list of contributing agencies. The agency list and status of updates and confirmations is provided as part of the FRPP Summary Report.

d. On February 4, 2004, the President issued Executive Order (EO) 13327, “Federal Real Property Asset Management.” The EO created a Federal Real Property Council (FRPC) and directed the Administrator of General Services, in consultation with the FRPC, to establish and maintain a single, comprehensive database of all real property under the custody and control of all executive branch agencies, except for property withheld for reasons of national security, foreign policy, or public safety. With the issuance of EO 13327 and to meet the requirements defined by the FRPC, the Governmentwide inventory report will be modified for FY 2005 reporting purposes. For future fiscal years, including FY 2006 and beyond, a Governmentwide inventory report will be compiled based on any new requirements established by the FRPC.

3. How can we obtain a copy of the FRPP summary report? You will find the FY 2004 version of the FRPP Summary Report on the GSA website at http://www.gsa.gov/realpropertyprofile. There you will be able to read, print, or download this report. You can also obtain a copy from the Asset Management Division (MPA), General Services Administration, 1800 F Street, NW., Washington, DC 20405, or by email at mcdonald.peoples@gsa.gov.

4. Who should we contact for further information regarding the FRPP? For further information, contact Stanley Langfeld, Director, Regulations Management Division (MPR), Office of Real Property Management, Office of Governmentwide Policy, General Services Administration, 1800 F Street, NW., Washington, D.C. 20405, by phone at (202) 501-1737, or by e-mail at stanley.langfeld@gsa.gov.

[FR Doc. 05-13094 Filed 6-30-05; 8:45 am]

BILLING CODE 6820-RH-S